DEPARTMENT OF THE TREASURY

Office of Foreign Assets Control

OFAC Implementation of Certain Sanctions Imposed on Ferland Company Limited by the Secretary of State Pursuant to the Iran Sanctions Act of 1996, as Amended; Actions Taken With Respect to Ferland Company Limited Pursuant to Executive Order 13608 and Executive Order 13645

AGENCY: Office of Foreign Assets Control, Treasury.

ACTION: Notice.

SUMMARY: The Treasury Department's Office of Foreign Assets Control (“OFAC”) is providing notice of actions taken by OFAC with respect to Ferland Company Limited to (i) implement certain of the sanctions imposed by the Secretary of State pursuant to the Iran Sanctions Act of 1996 (Pub. L. 104-172) (50 U.S.C. 1701 note), as amended (“ISA”); (ii) impose sanctions pursuant to Executive Order 13608 of May 1, 2012, “Prohibiting Certain Transactions With and Suspending Entry Into the United States of Foreign Sanctions Evaders With Respect to Iran and Syria” (“E.O. 13608”); and (iii) block property and interests in property in which Ferland Company Limited has an interest pursuant to Executive Order 13645 of June 3, 2013 “Authorizing the Implementation of Certain Sanction set forth in the Iran Freedom and Counter-Proliferation Act of 2012 and Additional Sanctions with Respect to Iran” (“E.O. 13645”).

DATES: OFAC's actions described in this notice to implement certain ISA sanctions and impose sanctions pursuant to E.O. 13608 on Ferland Company Limited were effective May 31, 2013. OFAC's actions pursuant to Executive Order 13645 described in this notice were effective December 12, 2013.

FOR FURTHER INFORMATION CONTACT: Assistant Director for Sanctions Compliance and Evaluation, Office of Foreign Assets Control, Department of the Treasury, Washington, DC 20220, tel.: 202/622-2490.

SUPPLEMENTARY INFORMATION:

Electronic and Facsimile Availability

This document and additional information concerning OFAC are available from OFAC's Web site (www.treasury.gov/ofac) or via facsimile through a 24-hour fax-on demand service tel.: (202) 622-0077.

Background

The Iran Sanctions Act of 1996 (Pub. L. 104-172) (50 U.S.C. 1701 note), as amended (“ISA”), requires the Secretary of State, pursuant to authority delegated by the President, to impose or waive sanctions on persons determined to have engaged in certain investment or other activity in connection with Iran's petroleum or petrochemical sectors. Specifically, section 5(a)(8) of ISA requires the imposition of sanctions on certain persons that conceal the Iranian origin of crude oil and refined petroleum products. Executive Order 13628 of October 9, 2012, “Authorizing the Implementation of Certain Sanctions Set Forth in the Iran Threat Reduction and Syria Human Rights Act of 2012 and Additional Sanctions With Respect to Iran” (“E.O. 13628”), requires the Secretary of the Treasury, pursuant to authority under the International Emergency Economic Powers Act (50 U.S.C. 1701-1706), to implement certain sanctions set forth in section 6 of ISA when those sanctions are selected and imposed by the Secretary of State pursuant to ISA.

The Secretary of the Treasury is responsible for implementing the following sanctions described in section 6(a) of ISA: (i) With respect to section 6(a)(3) of ISA, to prohibit any U.S. financial institution from making loans or providing credits to a person sanctioned under ISA; (ii) with respect to section 6(a)(6) of ISA, to prohibit any transactions in foreign exchange that are subject to the jurisdiction of the United States and in which a person sanctioned under ISA has any interest; (iii) with respect to section 6(a)(7) of ISA, to prohibit any transfers of credit or payments between financial institutions or by, through, or to any financial institution, to the extent that such transfers or payments are subject to the jurisdiction of the United States and involved any interest of a person sanctioned under ISA; (iv) with respect to section 6(a)(8) of ISA, to block all property and interests in property that are in the United States, that come within the United States, or that are or come within the possession or control of any United States person, including any foreign branch, of a person sanctioned under ISA, and to provide that such property and interests in property may not be transferred, paid, exported, withdrawn, or otherwise dealt in; (v) with respect to section 6(a)(9) of ISA, to prohibit any United States person from investing in or purchasing significant amounts of equity or debt instruments of a person sanctioned under ISA; (vi) with respect to section (6)(a)(11) of ISA, to impose on the principal executive officer or officers, or persons performing similar functions and with similar authorities, of a person sanctioned under ISA the sanctions described in (i) through (v) above and (vii) below, as selected by the Secretary of State; and (vii) with respect to section (6)(a)(12) of ISA, to restrict or prohibit imports of goods, technology, or services, directly or indirectly, into the United States from a person sanctioned under ISA.

The Secretary of State has imposed sanctions on the person listed below pursuant to section 5(a)(8) of ISA. See 78 FR 35351 (June 12, 2013), which provides the name of the entity subject to sanctions, as well as a complete list of the sanctions imposed. Accordingly, the Director of OFAC, acting pursuant to delegated authority, has taken action under E. O. 13628 to implement with respect to the entity listed below certain sanctions imposed by the Secretary of State pursuant to the following subsections of ISA: 6(a)(3), (6), (7), and (8).

On May 1, 2012, the President issued Executive Order 13608, “Prohibiting Certain Transactions With and Suspending Entry Into the United States of Foreign Sanctions Evaders With Respect to Iran and Syria” (“E.O. 13608”). Section 1(a)(ii) of E.O. 13608 authorizes the Secretary of the Treasury, in consultation with the Secretary of State, to impose on a foreign person certain measures upon determining that the foreign person has, inter alia, “facilitated deceptive transactions for or on behalf of any person subject to United States sanctions concerning Iran or Syria.”

Section 7(d) of E.O. 13608 defines the term “deceptive transaction” to mean “any transaction where the identity of any person subject to United States sanctions concerning Iran or Syria is withheld or obscured from other participants in the transaction or any relevant regulatory authorities.”

Section 1(b) of E.O. 13608 authorizes the Secretary of the Treasury to prohibit all transactions or dealings involving such persons sanctioned under E.O. 13608 in or related to any goods, services, or technology (i) in or intended for the United States, or (ii) provided by or to United States persons, wherever located. These prohibitions cover the aforementioned transactions or dealings, but do not require the blocking of property or interests in property of the person sanctioned pursuant to E.O. 13608.

On May 31, 2013, the Director of OFAC, acting pursuant to delegated authority, imposed sanctions on the entity listed below and prohibited all transactions or dealings involving that entity, as described in Section 1(b) of E.O. 13608.

On June 3, 2013, the President issued Executive Order 13645 (“Authorizing the Implementation of Certain Sanctions Set Forth in the Iran Freedom and Counter-Proliferation Act of 2012 and Additional Sanctions With Respect to Iran”) (“E.O. 13645”). Section 2 of E.O. 13645 blocks, with certain exceptions, all property and interests in property that are in the United States, that hereafter come within the United States, or that are or hereafter come within the possession or control of any United States person, including any foreign branch, of persons determined by the Secretary of the Treasury, in consultation with the Secretary of State, to satisfy any of the criteria set forth in subsection (a)(i) or (a)(ii) of section 2.

On December 12, 2013, the Director of OFAC, acting pursuant to delegated authority, designated the entity listed below ¹ as a person whose property and interests in property are blocked pursuant to section 2 of E.O. 13645.

¹ In addition, on December 12, 2013, the Director of OFAC designated individual VITALY SOKOLENKO and entities MID OIL ASIA PTE. LTD., SINGA TANKERS PTE. LTD., and SIQIRIYA MARITIME CORP. pursuant to section 2 of E.O. 13645. Separate notices detailing OFAC's actions with respect to this individual and these entities are being published in today's Federal Register.

Entity

1. FERLAND COMPANY LIMITED (a.k.a. FERLAND CO. LTD), 29 A Anna Komnini St., PO Box 2303, Nicosia, Cyprus; 5/7 Sabaneyev Most., Odessa, Ukraine [EO13645] [ISA] [FSE-IR].

The Director of OFAC has: (a) Blocked all property and interests in property that are in the United States, that come within the United States, or that are or come within the possession or control of any United States person, including any overseas branch, of the entity listed above; (b) prohibited any transfers of credit or payments between financial institutions or by, through, or to any financial institution, to the extent that such transfers or payments are subject to the jurisdiction of the United States and involve any interest of the entity listed above; (c) prohibited U.S. financial institutions from making loans or providing credits totaling more than $10,000,000 over a 12-month period to the entity listed above; (d) prohibited any transactions in foreign exchange that are subject to the jurisdiction of the United States and which involve any interest of the entity listed above; and (e) prohibited all transactions or dealings involving the entity listed above in or related to any goods, services, or technology (i) in or intended for the United States, or (ii) provided by or to United States persons, wherever located. Ferland Company Limited has been added to both OFAC's List of Specially Designated Nationals and Blocked Persons and OFAC's List of Foreign Sanctions Evaders with the identifying tags “EO13645”, “ISA”, and “FSE-IR.”

Dated: July 18, 2014.
Barbara C. Hammerle,
Acting Director, Office of Foreign Assets Control.

[FR Doc. 2014-21220 Filed 9-4-14; 8:45 am]

BILLING CODE 4810-AL-P